DEPARTMENT OF ENERGY

Federal Energy Regulatory Commission

Combined Notice of Filings #1

June 1, 2010.

Take notice that the Commission received the following exempt wholesale generator filings:

Docket Numbers: EG10-39-000.

Applicants: Hatchet Ridge Wind, LLC.

Description: Notice of Self-Certification of Exempt Wholesale Generator Status of Hatchet Ridge Wind, LLC.

Filed Date: 05/28/2010.

Accession Number: 20100528-5219.

Comment Date: 5 p.m. Eastern Time on Friday, June 18, 2010.

Take notice that the Commission received the following electric rate filings:

Docket Numbers: ER99-4102-009.

Applicants: Milford Power Company, LLC.

Description: Notice of Change in Status of Milford Power Company, LLC.

Filed Date: 06/01/2010.

Accession Number: 20100601-5068.

Comment Date: 5 p.m. Eastern Time on Tuesday, June 22, 2010.

Docket Numbers: ER07-876-002.

Applicants: Chevron Coalinga Energy Company.

Description: Chevron Coalinga Energy Company submits Order No 697 Compliance filing.

Filed Date: 05/28/2010.

Accession Number: 20100601-0215.

Comment Date: 5 p.m. Eastern Time on Friday, June 18, 2010.

Docket Numbers: ER08-444-004.

Applicants: NSTAR Electric Company, Medical Area Total Energy Plant, Inc., MATEP LLC.

Description: Letter regarding compliance obligation of NSTAR Electric Company.

Filed Date: 06/01/2010.

Accession Number: 20100601-5111.

Comment Date: 5 p.m. Eastern Time on Tuesday, June 22, 2010.

Docket Numbers: ER08-1314-001.

Applicants: Wheelabrator Frackville Energy Company I.

Description: Notice of Change in Status of Wheelabrator Frackville Energy Company Inc.

Filed Date: 06/01/2010.

Accession Number: 20100601-5094.

Comment Date: 5 p.m. Eastern Time on Tuesday, June 22, 2010.

Docket Numbers: ER10-319-001.

Applicants: California Independent System Operator Corporation.

Description: The California Independent System Operator Corporation submits revisions to its tariff in compliance with the Commission's order issued in proceeding on 4/30/10.

Filed Date: 05/28/2010.

Accession Number: 20100528-0206.

Comment Date: 5 p.m. Eastern Time on Friday, June 18, 2010.

Docket Numbers: ER10-810-001.

Applicants: Midwest Independent System Operator, Inc.

Description: Midwest Independent Transmission System Operator, Inc submits proposed amendments to its Open Access Transmission, Energy and Operating Reserve Markets Tariff.

Filed Date: 05/27/2010.

Accession Number: 20100528-0200.

Comment Date: 5 p.m. Eastern Time on Thursday, June 17, 2010.

Docket Numbers: ER10-893-001.

Applicants: PJM Interconnection, L.L.C.

Description: PJM Interconnection, LLC submits the revised Open Access Tariff.

Filed Date: 05/27/2010.

Accession Number: 20100527-0165.

Comment Date: 5 p.m. Eastern Time on Thursday, June 17, 2010.

Docket Numbers: ER10-1151-001.

Applicants: AmerenEnergy Resources Generating Company.

Description: AmerenEnergy Resources Generating Company submits tariff filing per 35: Corrected AERG Schedule 3 Section 2, Ancillary Services, Term to be effective 5/28/2010.

Filed Date: 05/27/2010.

Accession Number: 20100527-5168.

Comment Date: 5 p.m. Eastern Time on Thursday, June 17, 2010.

Docket Numbers: ER10-1319-001.

Applicants: CMS Generation Michigan Power, LLC.

Description: CMS Generation Michigan Power, LLC submits tariff filing per 35: CMS Gen MI Power LLC Power Sales & Reactive Supply & Voltage Control Service Tariff to be effective 5/28/2010.

Filed Date: 05/28/2010.

Accession Number: 20100528-5056.

Comment Date: 5 p.m. Eastern Time on Friday, June 18, 2010.

Docket Numbers: ER10-1347-000.

Applicants: Vermont Electric Power Company, Inc.

Description: Vermont Electric Power Co, Inc on behalf of Vermont Joint Owners submits a request for limited waiver of the minimum ICAP Import Commitment Duration under ISO New England Market Rule 1.

Filed Date: 05/27/2010.

Accession Number: 20100527-0188.

Comment Date: 5 p.m. Eastern Time on Thursday, June 17, 2010.

Docket Numbers: ER10-1349-000.

Applicants: Midwest Independent Transmission System Operator, Inc.

Description: Midwest Independent Transmission System Operator, Inc submits Amended and Restated Facilities Construction Agreement with Minnkota Power Cooperative, Inc.

Filed Date: 05/27/2010.

Accession Number: 20100527-0178.

Comment Date: 5 p.m. Eastern Time on Thursday, June 17, 2010.

Docket Numbers: ER10-1350-000.

Applicants: Entergy Services, Inc.

Description: Entergy Operating Companies submits rates to implement the decision of the Commission as contained in Opinion Nos 480 and 480-A.

Filed Date: 05/27/2010.

Accession Number: 20100528-0204.

Comment Date: 5 p.m. Eastern Time on Thursday, June 17, 2010.

Docket Numbers: ER10-1351-000.

Applicants: Maine Public Service Company.

Description: Maine Public Service Company submits proposed revisions to its FERC Open Access Transmission Tariff to be effective 6/1/10.

Filed Date: 05/27/2010.

Accession Number: 20100528-0203.

Comment Date: 5 p.m. Eastern Time on Thursday, June 17, 2010.

Docket Numbers: ER10-1352-000.

Applicants: ISO New England Inc., New England Power Pool.

Description: ISO New England Inc et al. submits revisions to the Forward Capacity Market rules, as well as a revision to Section III.12.7 of Market Rule 1 etc.

Filed Date: 05/27/2010.

Accession Number: 20100528-0202.

Comment Date: 5 p.m. Eastern Time on Thursday, June 17, 2010.

Docket Numbers: ER10-1353-000.

Applicants: Dearborn Industrial Generation, L.L.C.

Description: Dearborn Industrial Generation, L.L.C. submits tariff filing per 35.12: Dearborn Industrial Generation, LLC FERC Elec Rate Sched No 1 Tariff to be effective 5/28/2010.

Filed Date: 05/28/2010.

Accession Number: 20100528-5013.

Comment Date: 5 p.m. Eastern Time on Friday, June 18, 2010.

Docket Numbers: ER10-1355-000.

Applicants: Southern California Edison Company.

Description: Southern California Edison Company submits tariff filing per 35.12: MBR Tariff Baseline 052810 to be effective 5/28/2010.

Filed Date: 05/28/2010.

Accession Number: 20100528-5060.

Comment Date: 5 p.m. Eastern Time on Friday, June 18, 2010.

Docket Numbers: ER10-1356-000.

Applicants: Southern California Edison Company.

Description: Southern California Edison Company submits tariff filing per 35.12: Whole Dist Acc Tariff Baseline 052810 to be effective 5/28/2010.

Filed Date: 05/28/2010.

Accession Number: 20100528-5061.

Comment Date: 5 p.m. Eastern Time on Friday, June 18, 2010.

Docket Numbers: ER10-1357-000.

Applicants: Southern California Edison Company.

Description: Southern California Edison Company submits tariff filing per 35.12: TO Tariff Baseline 052810 to be effective 6/1/2010.

Filed Date: 05/28/2010.

Accession Number: 20100528-5062.

Comment Date: 5 p.m. Eastern Time on Friday, June 18, 2010.

Docket Numbers: ER10-1358-000.

Applicants: The Empire District Electric Company.

Description: The Empire District Electric Company submits notice of termination of its cost-based Wholesale Electric Service Schedule W-1, as well as all Wholesale Electric Service Agreements under the Schedule W-1 effective 7/31/10.

Filed Date: 05/28/2010.

Accession Number: 20100528-0205.

Comment Date: 5 p.m. Eastern Time on Friday, June 18, 2010.

Docket Numbers: ER10-1359-000.

Applicants: TC Ravenswood, LLC.

Description: TC Ravenswood, LLC submits Rate Schedule FERC No 2 and Minimum Fuel Oil Supply Agreement with Westport Petroleum, Inc dated May 27, 2010, to implement a Variable Cost of Service Recovery Rate etc.

Filed Date: 05/27/2010.

Accession Number: 20100528-0224.

Comment Date: 5 p.m. Eastern Time on Thursday, June 17, 2010.

Docket Numbers: ER10-1360-000.

Applicants: California Independent System Operator Corporation.

Description: California Independent System Operator Corporation submits amendments to the FERC Electric Tariff to Include Multi-Stage Generating Resource Modeling.

Filed Date: 05/28/2010.

Accession Number: 20100528-0249.

Comment Date: 5 p.m. Eastern Time on Friday, June 18, 2010.

Docket Numbers: ER10-1361-000.

Applicants: Midwest Independent Transmission System Operator, Inc.

Description: Midwest Independent Transmission System Operator, Inc's submits proposed revisions to its Open Access Transmission, Energy and Operating Reserve Markets Tariff.

Filed Date: 05/28/2010.

Accession Number: 20100601-0213.

Comment Date: 5 p.m. Eastern Time on Friday, June 18, 2010.

Docket Numbers: ER10-1362-000.

Applicants: Hatchet Ridge Wind, LLC.

Description: Hatchet Ridge Wind, LLC submits an application for authorization to sell energy and capacity in wholesale transactions at negotiated, market-based rates.

Filed Date: 05/28/2010.

Accession Number: 20100601-0212.

Comment Date: 5 p.m. Eastern Time on Friday, June 18, 2010.

Docket Numbers: ER10-1363-000.

Applicants: Potomac-Appalachian Transmission Highline, LLC.

Description: Potomac-Appalachian Transmission Highline, LLC submits Substitute Original Sheet No 314S et al. to FERC Electric Tariff, Sixth Revised Volume No 1.

Filed Date: 05/28/2010.

Accession Number: 20100601-0211.

Comment Date: 5 p.m. Eastern Time on Friday, June 18, 2010.

Docket Numbers: ER10-1364-000.

Applicants: New England Power Pool Participants Committee.

Description: The New England Power Pool Participants Committee submits signature pages to the New England Power Pool Agreement with Ameresco DR, LLC et al.

Filed Date: 05/28/2010.

Accession Number: 20100601-0214.

Comment Date: 5 p.m. Eastern Time on Friday, June 18, 2010.

Docket Numbers: ER10-1365-000.

Applicants: Florida Power Corporation.

Description: Florida Power Corporation submits an amendment to the 2/9/04 Power Sales Agreement with Progress and Seminole Electric Cooperative, Inc.

Filed Date: 05/28/2010.

Accession Number: 20100601-0210.

Comment Date: 5 p.m. Eastern Time on Friday, June 18, 2010.

Docket Numbers: ER10-1366-000.

Applicants: Midwest Independent Transmission System Operator, Inc.

Description: Midwest Independent Transmission System Operator, Inc submits Attachment X to the FERC Electric Tariff, Fourth Revised Volume No 1.

Filed Date: 05/28/2010.

Accession Number: 20100601-0209.

Comment Date: 5 p.m. Eastern Time on Friday, June 18, 2010.

Docket Numbers: ER10-1368-000.

Applicants: Union Electric Company.

Description: Union Electric Company submits tariff filing per 35: UE Reactive Supply and Voltage Control to be effective 6/1/2010.

Filed Date: 06/01/2010.

Accession Number: 20100601-5054.

Comment Date: 5 p.m. Eastern Time on Tuesday, June 22, 2010.

Docket Numbers: ER10-1372-000.

Applicants: Pacific Gas and Electric Company.

Description: Notice of Termination of Aera Energy LLC GSFA and GIA of Pacific Gas and Electric Company.

Filed Date: 05/28/2010.

Accession Number: 20100528-5234.

Comment Date: 5 p.m. Eastern Time on Friday, June 18, 2010.

Docket Numbers: ER10-1373-000.

Applicants: Pacific Gas and Electric Company.

Description: Notices of Termination for CCSF GSFA and LGIA of Pacific Gas and Electric Company.

Filed Date: 05/28/2010.

Accession Number: 20100528-5235.

Comment Date: 5 p.m. Eastern Time on Friday, June 18, 2010.

Take notice that the Commission received the following electric securities filings:

Docket Numbers: ES10-47-000.

Applicants: Indianapolis Power & Light Company.

Description: Application of Indianapolis Power & Light Company under FPA Section 204 for an Order Authorizing the Issuance of Short-Term Debt Instruments.

Filed Date: 05/28/2010.

Accession Number: 20100528-5199.

Comment Date: 5 p.m. Eastern Time on Friday, June 18, 2010.

Take notice that the Commission received the following land acquisition reports:

Docket Numbers: LA10-1-000.

Applicants: Order 697-C 2010 1st Qtr Site Acquisition.

Description: Notice of Non-Material Change in Status; Sites for New Generation Capacity Development.

Filed Date: 05/28/2010.

Accession Number: 20100528-5211.

Comment Date: 5 p.m. Eastern Time on Friday, June 18, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-13920 Filed 6-9-10; 8:45 am]

BILLING CODE 6717-01-P